DEPARTMENT OF STATE

[Public Notice 4986]

Determination and Waiver of Section 592 of the Foreign Operations, Export Financing, and Related Programs Appropriations Act, 2005 (Division D, Public Law 108-447), Relating to Compliance With the Algiers Agreements

Pursuant to the authority vested in me by section 592 of the Foreign Operations, Export Financing, and Related Programs Appropriations Act, 2005 (Division D, Pub. L. 108-447), I hereby determine that it is in the national security interests of the United States to waive the requirements of this section as they pertain to the central Governments of Eritrea and Ethiopia.

This determination shall be notified to the Congress and published in the Federal Register.

Dated: January 24, 2005.
Colin L. Powell,
Secretary of State, Department of State.

[FR Doc. 05-1928 Filed 2-1-05; 8:45 am]

BILLING CODE 4710-26-P